DEPARTMENT OF HOUSING AND URBAN DEVELOPMENT

[Docket No. FR-5719-N-02]

60-Day Notice of Proposed Information Collection: Federal Labor Standards Questionnaire(s); Complaint Intake Form

AGENCY: Office of Labor Relations, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: September 24, 2013.

ADDRESSES: Interested persons are invited to submit comments regarding this proposal. Comments should refer to the proposal by name and/or OMB Control Number and should be sent to: Saundra A. Green, Administrative Officer, Office of Labor Relations, Department of Housing and Urban Development, 451 7th Street SW., Room 2124, Washington, DC 20410-5000; telephone 202-402-5537 (this is not a toll-free number) or email at Saundra.a.Green@hud.gov or a copy of the proposed forms or other available information. Persons with hearing or speech impairments may access this number through TTY by calling the toll-free Federal Relay Service at (800) 877-8339.

FOR FURTHER INFORMATION CONTACT: Colette Pollard, Reports Management Officer, QDAM, Department of Housing and Urban Development, 451 7th Street SW., Washington, DC 20410; email Colette Pollard at Colette.Pollard@hud.gov or telephone 202-402-3400. This is not a toll-free number. Persons with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in Section A.

A. Overview of Information Collection

Title of Information Collection: Federal Labor Standards Questionnaire; Complaint Intake Form.

OMB Approval Number: 2501-0018.

Type of Request: Extension of currently approved collection.

Form Number: HUD-4730, HUD-4730E, HUD-4730SP and HUD-4731.

Description of the need for the information and proposed use: Information collected on HUD-4730, 4730E and 4730SP, Federal Labor Standards Questionnaires, will be used by HUD and agencies administering HUD programs to collect information from laborers and mechanics employed on HUD-assisted projects. Employers are required to submit weekly certified payroll reports in order to demonstrate and attest to their compliance with Federal labor standards. The information collected on questionnaires is primarily used to determine whether payroll information supplied by employers is valid. Testing employer data can disclose violations that may be concealed or that are otherwise not apparent to the agency.

Information collected on the HUD 4731, Federal Labor Standard Complaint Intake form, will be used by HUD and agencies administering HUD programs to collect information from complainants alleging violations of Federal labor standards on HUD-assisted projects. The information collected is primarily used in the conduct of investigations into the allegations.

Generally, enforcement actions, including investigations, are geared to the respondent's benefit, that is, to determine whether the respondent was underpaid and to ensure the payment of wage restitution to the respondent, if so.

These forms have been crafted to focus on essential information, to make it easy to read and complete, and to best capture the information needed for HUD to competently enforce Federal labor standards and to protect workers' rights to prevailing wages.

Estimated Number of Respondents: 2,000.

Estimated Number of Responses: 2,000.

Frequency of Response: 1.

Average Hours per Response: .5.

Total Estimated Burdens: 1,000.

Note: Preparer of this notice may substitute the chart for everything beginning with estimated number of respondents above:

Information collection | Number of respondents | Frequency of response | Responses per annum | Burden hour per response | Annual burden hours | Hourly cost per response | Annual cost
HUD-4730, 4730E, 4730SP | 2,500 | 1 | 1 | .5 | 1250 | 10.00 | 12,500
Total |  |  |  |  |  |  |

B. Solicitation of Public Comment

This notice is soliciting comments from members of the public and affected parties concerning the collection of information described in Section A on the following: (1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: July 18, 2013.
Jacqueline Roundtree,
Acting Director, Office of Labor Relations.

[FR Doc. 2013-18002 Filed 7-25-13; 8:45 am]

BILLING CODE 4210-67-P